GENERAL SERVICES ADMINISTRATION

[Notice-PBS-2018-14; Docket No. 2018-0002; Sequence No. 33]

Notice of Availability of a Draft Supplemental Environmental Impact Statement for the New U.S. Land Port of Entry in Madawaska, Maine and Madawaska-Edmundston International Bridge Project

AGENCY: Public Buildings Service (PBS), General Services Administration (GSA); Federal Highway Administration (FHWA); Maine Department of Transportation (MaineDOT).

ACTION: Notice of availability.

SUMMARY: Pursuant to the requirements of the National Environmental Policy Act of 1969 (NEPA), the Council on Environmental Quality Regulations, the GSA Public Buildings Service NEPA Desk Guide, and the FHWA Policy Guide, GSA, PBS, the Federal Highway Administration (FHWA), and MaineDOT, in cooperation with the U.S. Coast Guard and in coordination with the U.S. Customs and Border Protection (CBP), announce the availability of a Draft Supplemental Environmental Impact Statement (DSEIS) assessing the potential impacts of a proposed new U.S. Land Port of Entry (LPOE) in Madawaska, Maine and an International Bridge project between Madawaska and Edmundston, New Brunswick, Canada (the “Proposed Action”).

DATES: The GSA, FHWA, and MaineDOT will host a public hearing on Wednesday, December 12, 2018.

ADDRESSES: Madawaska High School gymnasium at 135 7th Avenue, Madawaska, Maine 04756, at 6:30 p.m. EST (Eastern Standard Time). The evening of the public hearing will consist of an open house to view displays beginning at 6:00 p.m., a brief presentation beginning at 6:30 p.m., followed by an opportunity to provide comments on the contents of the DSEIS. Interested parties are encouraged to attend and provide written comments by Thursday, January 31, 2019.

Written comments can be submitted by the following methods:

• Regulations.gov: http://www.regulations.gov (http://www.regulations.gov). Submit comments via the Federal eRulemaking portal by searching the Notice number or “New U.S. Land Port of Entry in Madawaska, Maine and Madawaska-Edmundston International Bridge Project.” Select the link “Comment Now” that corresponds with “Notice of Availability of a Draft Supplemental Environmental Impact Statement for the New U.S. Land Port of Entry in Madawaska, Maine and Madawaska-Edmundston International Bridge Project” on your attached document.

• Postal Mail or Email: Ms. Alexas Kelly, Project Manager, GSA, 10 Causeway Street, 11th Floor, Boston, MA 02222, or alexandria.kelly@gsa.gov.

• Postal Mail: Ms. Cheryl Martin, Assistant Division Administrator, FHWA, Edmund S. Muskie Federal Building, 40 Western Avenue, Room 614, Augusta, ME 04330.

FOR FURTHER INFORMATION CONTACT: Alexas Kelly, Project Manager, GSA, New England Region, by phone at 617-549-8190 or by email at alexandria.kelly@gsa.gov. Please also call this number if special assistance is needed to attend and participate in the public hearing.

SUPPLEMENTARY INFORMATION: The GSA, FHWA, and MaineDOT will have copies of the DSEIS for review at the Town of Madawaska Town Office on 328 St. Thomas Street, Suite 1012, Madawaska, Maine 04756. Further information, including an electronic copy of the Draft SEIS, may be found online on the following website: https://www.gsa.gov/about-us/regions/welcome-to-the-new-england-region-1/buildings-and-facilities/development-projects/madawaska-land-port-of-entry-madawaska-me.

Background

The purpose of the project is to provide for the long-term safe and efficient flow of current and projected traffic volumes, including the movement of goods and people between Edmundston, New Brunswick and Madawaska, Maine. The need is that (1) the existing International Bridge is nearing the end of its useful life, and (2) the existing Madawaska Land Port of Entry is substandard, inhibiting the agencies assigned to the Port from adequately fulfilling their respective missions.

The existing Madawaska-Edmundston International Bridge, opened in 1921, and its design life has been exceeded. Notable bridge deficiencies are (1) substandard roadway width and clearance, (2) foundation susceptible to undermining, (3) piers cracked and deteriorated, (4) significant steel corrosion, (5) bridge capacity is insufficient, and (6) deficiencies prompting the bridge posting on October 27, 2017, from 50 tons to 5 tons.

A Final Environmental Impact Statement (FEIS) and Record of Decision (ROD) were published in January 2007, which addressed the construction of a new Madawaska LPOE.

Built in 1959, the current LPOE suffers from facility, operational and site deficiencies, and does not meet current CBP mission and operational requirements for an LPOE. A few noted deficiencies: (1) Lack of office and inspection areas, (2) deficient inbound and outbound passenger and commercial processing areas, (3) inadequate queuing space for vehicles, and (4) inability to meet the Architectural Barriers Act. In furtherance of the LPOE Project, GSA previously acquired approximately nine acres of land but did not commence construction.

A Supplemental Environmental Impact Statement (SEIS) is needed due to a change in circumstance, specifically the decision by MaineDOT and New Brunswick Department of Transportation and Infrastructure (NBDTI) to initiate the Madawaska-Edmundston International Bridge project. The SEIS will address changes to the Proposed Action, including an updated design in accordance with current GSA and CBP requirements, and options for rehabilitation or replacement of the International Bridge (the totality of which may require additional land acquisition).

The Proposed Action consists of replacing the existing International Bridge and the existing Madawaska LPOE to improve safety, security, and functionality.

The new LPOE would consist of a main administration building and support building with parking, circulation and processing areas. The new LPOE would be designed in accordance with the requirements and criteria of the GSA and CBP to provide facilities adequate for fulfilling the agencies' respective missions. Portions of Mill Street and Main Street adjacent to the LPOE may be reconstructed or re-profiled to provide smooth ingress and egress to the LPOE. The Proposed Action may include the demolition of the existing LPOE.

The Proposed Action may include the demolition of the existing International Bridge.

This DSEIS evaluates a no action alternative and several build alternatives for the LPOE and International Bridge. No alternative has been identified as the preferred alternative. However, a preferred location for the new LPOE and a preferred corridor for a new International Bridge have been selected. A no-build alternative is being studied that evaluates the consequences of not constructing the new International Bridge and LPOE. This alternative is included to provide a basis for comparison to the action alternatives described above as required by the NEPA regulations (40 CFR 1002.14(d)).

The GSA, FHWA, and MaineDOT invite individuals, organizations, and agencies to submit comments concerning the content and findings of the DSEIS. The public comment period starts with the publication of this notice in the Federal Register and will continue until January 31, 2019. The GSA, FHWA, and MaineDOT will consider and respond to comments received on the DSEIS in preparing the Final SEIS. The GSA, FHWA and MaineDOT expect to issue the Final SEIS by spring 2019, at which time its availability will be announced in the Federal Register and local media.

Dated: November 21, 2018.
Drew Dilks,
Project Management Branch Chief, Design and Construction, Public Buildings Service.

[FR Doc. 2018-26125 Filed 11-30-18; 8:45 am]

BILLING CODE 6820-23-P